DEPARTMENT OF COMMERCE

International Trade Administration

Industry Sector and Functional Advisory Committees for Trade Policy Matters (ISACs and IFACs); Request for Nominations

AGENCY: International Trade Administration, Trade Development.

ACTION: Notice of charter renewal and opportunity to nominate candidates for vacancies on the ISACs and IFACs.

SUMMARY: On March 18, 2002, the Secretary of Commerce and the United States Trade Representative (USTR) renewed the charters of the 17 Industry Sector and four Industry Functional Advisory Committees on Trade Policy Matters for a two-year term to expire March 18, 2004. The Industry Sector and Functional Advisory Committees (ISACs and IFACs) advise the United States Trade Representative and the Secretary of Commerce on trade matters. There are currently opportunities for membership on each of these Committees, including opportunities to serve as environmental representative on three of the Committees: ISAC 3 (Chemicals and Allied Products), ISAC 10 (Lumber and Wood Products), and ISAC 12 (Paper and Paper Products). Nominations will be accepted for current vacancies and those that occur throughout the remainder of the charter term, which expires on March 18, 2004. In order to be considered for appointment to the ISACs and IFACs, a nominee must be a U.S. citizen who is not a full-time employee of a governmental entity, is not registered with the Department of Justice under the Foreign Agents Registration Act, and represents a U.S. entity that trades internationally or an association of such entities (an environmental nominee must represent a U.S. entity with an interest in environmental issues relevant to the work of these Committees). Priority will be given to manufacturing establishments and firms that are outside of the Washington, DC area. U.S.-based subsidiaries of foreign companies, non-government organizations (except environmental organizations applying to ISAC 3, ISAC 10, and ISAC 12), and academic institutions do not qualify for representation on a Committee.

Recruitment: Vacancies may occur throughout the charter period and new appointments are made on a rolling basis. Recruitment information is available on the International Trade Administration website at: www.ita.doc.gov/icp. Further inquiries may be directed to Ingrid V. Mitchem, Director, Industries Consultations Program, U.S. Department of Commerce, 14th and Constitution Avenue, NW., Room 2015-B, Washington, DC 20230.

SUPPLEMENTARY INFORMATION: Pursuant to the Federal Advisory Committee Act (5 U.S.C. appendix 2), the Secretary of Commerce (the Secretary) and the United States Trade Representative (USTR) have renewed the charters of seventeen ISACs and four IFACs. The Secretary and USTR welcome nominations for the Industry Sector Advisory Committees for Trade Policy Matters (ISACs) and the Industry Functional Advisory Committees for Trade Policy Matters (IFACs) listed below:

• Industry Sector Advisory Committees for Trade Policy Matters (ISAC) on:

Aerospace Equipment (ISAC 1);

Capital Goods (ISAC 2);

Chemicals and Allied Products (ISAC 3);

Consumer Goods (ISAC 4);

Electronics and Instrumentation (ISAC 5);

Energy (ISAC 6);

Ferrous Ores and Metals (ISAC 7);

Footwear, Leather, and Leather Products (ISAC 8);

Building Products and Other Materials (ISAC 9);

Lumber and Wood Products (ISAC 10);

Nonferrous Ores and Metals (ISAC 11);

Paper and Paper Products (ISAC 12);

Services (ISAC 13);

Small and Minority Business (ISAC 14);

Textiles and Apparel (ISAC 15);

Transportation, Construction, Mining, Agricultural Equipment (ISAC 16);

Wholesaling and Retailing (ISAC 17); and

• Industry Functional Advisory Committees on Trade Policy Matters on:

Customs (IFAC 1);

Standards (IFAC 2);

Intellectual Property Rights (IFAC 3); and

Electronic Commerce (IFAC 4).

Background

In section 135 of the Trade Act of 1974 (1974 Trade Act, 19 U.S.C. 2155), as amended, Congress established a private-sector advisory system to ensure that U.S. trade policy and trade negotiation objectives adequately reflect U.S. commercial and economic interests. Section 135(a)(1) directs the President to

Seek information and advice from representative elements of the private sector and the non-federal governmental sector with respect to—

(A) Negotiating objectives and bargaining positions before entering into a trade agreement under [title I of the Trade Act of 1974 and section 1102 of the Omnibus Trade and Competitiveness Act of 1988];

(B) The operation of any trade agreement once entered into, including preparation for dispute settlement panel proceedings to which the United States is a party; and

(C) Other matters arising in connection with the development, implementation, and administration of the trade policy of the United States * * *

Section 135(c)(2) of the 1974 Trade Act provides that—

(2) The President shall establish such sectoral or functional advisory committees as may be appropriate. Such committees shall, insofar as is practicable, be representative of all industry, labor, agricultural, or service interests (including small business interests) in the sector or functional areas concerned. In organizing such committees, the United States Trade Representative and the Secretaries of Commerce, Labor, Agriculture, the Treasury, or other executive departments, as appropriate, shall—

(A) Consult with interested private organizations; and

(B) Take into account such factors as—

(i) patterns of actual and potential competition between United States industry and agriculture and foreign enterprise in international trade,

(ii) the character of the non-tariff barriers and other distortions affecting such competition,

(iii) the necessity for reasonable limits on the number of such advisory committees,

(iv) the necessity that each committee be reasonably limited in size, and

(v) in the case of each sectoral committee, that the product lines covered by each committee be reasonably related.

Pursuant to this provision, Commerce and USTR have established and co-chair seventeen Industry Sector Advisory Committees (ISACs) and four Industry Functional Advisory Committees (IFACs). The Committees' efforts have resulted in strengthening U.S. negotiating positions by enabling the United States to display a united front when it negotiates trade agreements with other nations. Committees meet an average of four times a year in Washington, DC. Members serve without compensation and are responsible for all expenses incurred in attending Committee meetings.

The Secretary of Commerce and the USTR co-chair the seventeen ISACs and IFACs.

Functions

The duties of the ISACs and IFACs are to provide the President with advice on objectives and bargaining positions for multilateral trade negotiations, bilateral trade negotiations, and other trade-related matters. The Committees provide bipartisan, industry input in the development of trade policy objectives. The Committees' efforts result in strengthening the U.S. negotiating position by enabling the United States to display a united front when it negotiates trade agreements with other nations.

The ISACs provide advice and information on issues that affect specific sectors of U.S. industry. The ISACs address market-access problems; barriers to trade; tariff levels; discriminatory foreign procurement practices; information, marketing, and advocacy needs of their sector; and other important trade issues.

The IFACs focus on cross-cutting issues that affect all industry sectors, such as customs matters, product standards, and intellectual property rights. Other functional issues, such as government procurement and subsidies, are handled in ad hoc meetings. Each ISAC may also select a member to serve on each IFAC so that a broad range of industry perspectives is represented.

Committees meet an average of four times a year, in Washington, DC. Members are responsible for all travel expenses incurred to attend the meetings.

Membership

ISAC and IFAC members are appointed jointly by the Secretary of Commerce and the USTR. Appointments are made at the rechartering of each Committee and periodically throughout the two-year charter period. Members serve at the discretion of the Secretary and USTR. Appointments to an ISAC or IFAC expire at the end of the Committee's charter. However, members may be re-appointed, should the Committee's charter be renewed, if the member proves to work effectively with the committee and his/her participation is still needed.

Each Committee is made up of approximately 30-50 members, based on the charter of each Committee. Each Committee elects a chairperson from the membership of the Committee.

Eligibility

Eligibility for membership on any Committee is limited to U.S. citizens who are not full-time employees of a governmental entity, are not registered with the Department of Justice under the Foreign Agents Registration Act, and represent a U.S. entity that (a) is directly engaged in the import or export of goods or that sells its services abroad, (b) is an association of such entities, or (c) with respect to environmental representatives serving on ISACs 3, 10 or 12, has an interest in environmental issues relevant to the work of the Committee. For purposes of the preceding sentence, a “U. S. entity” is an organization incorporated in the United States (or if unincorporated, having its headquarters in the United States:

(1) That is controlled by U.S. citizens or by another U.S. entity. An entity is not a U.S. entity if more than 50 percent of its Board of Directors or membership is made up of non-U.S. citizens. If the nominee is to represent an organization more than 10 percent of whose Board of Directors or membership is made up of non-U.S. citizens, or non-U.S. entities, the nominee must demonstrate at the time of nomination that this non-U.S. interest does not constitute control and will not adversely affect his or her ability to serve as a trade advisor to the United States; and

(2) At least 50 percent of whose annual revenue is attributable to non-governmental, U.S. sources.

Nominees are considered based upon their ability to carry out the goals of section 135 of the Trade Act of 1974, as amended. Secondary criteria are ensuring that the Committees are balanced in terms of points of view, demographics, geography, and company size. Appointments to all ISACs and IFACs are made without regard to political affiliation.

Application Procedures

Requests for applications should be sent to the Director of the Industry Consultations Program, U.S. Department of Commerce, 14th and Constitution Avenue, NW, Room 2015-B, Washington, DC 20230.

This notice is issued under the Federal Advisory Committee Act (5 U.S.C., app. 2) and 21 CFR part 14 relating to advisory committees.

Dated: March 13, 2002.
Linda M. Conlin,
Assistant Secretary for Trade Development.

[FR Doc. 02-6660 Filed 3-19-02; 8:45 am]

BILLING CODE 3510-DR-P